POSTAL SERVICE

39 CFR Part 232

Conduct on Postal Property

AGENCY: Postal Service.

ACTION: Final rule.

SUMMARY: The U.S. Postal Service is updating its regulations concerning Conduct on Postal Property (COPP) to correct or eliminate outdated citations, obviate the need for continuous updates of such citations by harmonizing the regulations with federal law, and make certain other minor, editorial revisions.

DATES: Effective date: December 17, 2010.

FOR FURTHER INFORMATION CONTACT: Christy Noel, Attorney, U.S. Postal Service, 202-268-3484.

SUPPLEMENTARY INFORMATION: The current rules governing Conduct on Postal Property contain a number of outdated or confusing references to non-postal statutes, and in some cases do not appear to harmonize clearly with Federal law. As discussed in more detail below, this final rule is intended to remedy those shortcomings, as well as make certain minor editorial revisions to the COPP regulations set forth in 39 CFR 232.1.

1. Paragraph (f) Gambling: The prohibition of lottery ticket sales contains an exception for Randolph-Sheppard vendors. This exception is amended to replace obsolete citations to Postal Service regulations with the statutory basis for the exception contained in the Randolph-Sheppard Act Amendments of 1974. Subsection (a)(5) of 20 U.S.C. 107a requires that blind vendors licensed to conduct vending operations on federal property be permitted to sell tickets “for any lottery authorized by State law and conducted by an agency of a State”. This amendment harmonizes Postal Service regulations with the Randolph-Sheppard Act by citing 20 U.S.C. 107a (a)(5) as the statutory basis for the exception.

2. Paragraph (m) Nondiscrimination: The nondiscrimination provision is amended to remove inappropriate references to employment policy. The Postal Service has determined that facilities regulations governing public access to and use of Postal Service property are not the appropriate venue for articulating employment policy. This amendment is necessary to eliminate potential conflict or redundancy with regard to employment regulations, and to correct the scope of the nondiscrimination provision of the COPP regulations, which governs the use of Postal Service facilities “of a public nature”.

3. Paragraph (o) Depositing Literature: The exception to the prohibition against depositing literature for posting of notices by U.S. Government-related organizations is amended to correct an outdated citation to title 36 of the United States Code. This amendment is necessary for consistency with title 36, which was revised in 1998 without substantive change (Pub. L. 105-225, section 501, 112 Stat. 1253). The amended regulation updates the statutory definition for U.S. Government-related organizations such as the Inaugural Committee, which is currently defined in 36 U.S.C. 501.

4. Paragraph (p) Penalties and other law: The penalty provision is amended to incorporate the procedures for a sentence of a fine under title 18 of the United States Code. This amendment is necessary for consistency with title 18, which authorizes the Postal Service to promulgate regulations for the administration and protection of property under its charge and control and of any persons on such property. 18 U.S.C. 3061. The Postal Accountability and Enhancement Act (Pub. L. 109-435, section 1001, 120 Stat. 3198) contains a penalty provision for violations of such regulations, codified at 18 U.S.C. 3061(c). This penalty provision provides that “a person violating a regulation prescribed under this subsection [authorizing Postal Service promulgation of regulations for the protection of its property and persons on such property] shall be fined under [title 18].” 18 U.S.C. 3061(c)(4)(B). Title 18 sets forth procedures for sentences of a fine for defendants found guilty of a criminal offense. 18 U.S.C. 3571. This amendment harmonizes Postal Service regulations with the Postal Accountability and Enhancement Act by citing 18 U.S.C. 3571 as the statutory basis for the penalty provision of the regulations.

List of Subjects in 39 CFR Part 232

Authority designations (Government agencies), Crime, Federal buildings and facilities, Government property, Law enforcement officers, Postal Service, Security measures.

In view of the considerations discussed above, the Postal Service adopts the following amendments to 39 CFR Part 232:

PART 232—[Amended]

1. The authority citation for Part 232 is revised to read as follows:

Authority: 18 U.S.C. 13, 3061, 3571; 21 U.S.C. 802, 844; 39 U.S.C. 401, 403(b)(3), 404(a)(7), 1201(2).

2. In § 232.1, paragraphs (f), (m), (o)(3), and (p)(2) are revised to read as follows:

§ 232.1 Conduct on postal property.

* * * * *

(f) Gambling. Participating in games for money or other personal property, the operation of gambling devices, the conduct of a lottery or pool, or the selling or purchasing of lottery tickets, is prohibited on postal premises. In accordance with 20 U.S.C. 107a(a)(5), this prohibition does not apply to the vending or exchange of State Lottery tickets at vending facilities operated by licensed blind persons where such lotteries are authorized by state law.

* * * * *

(m) Nondiscrimination. There must be no discrimination by segregation or otherwise against any person or persons because of race, color, religion, national origin, sex, or disability, in furnishing, or by refusing to furnish to such person or persons the use of any facility of a public nature, including all services, privileges, accommodations, and activities provided on postal property.

* * * * *

(o) * * *

(3) Posting of notices by U.S. Government-related organizations, such as the Inaugural Committee as defined in 36 U.S.C. 501.

(p) * * *

(2) Whoever shall be found guilty of violating the rules and regulations in this section while on property under the charge and control of the Postal Service is subject to a fine as provided in 18 U.S.C. 3571 or imprisonment of not more than 30 days, or both. Nothing contained in these rules and regulations shall be construed to abrogate any other Federal laws or regulations or any State and local laws and regulations applicable to any area in which the property is situated.

* * * * *

Stanley F. Mires,
Chief Counsel, Legislative.

[FR Doc. 2010-31775 Filed 12-16-10; 8:45 am]

BILLING CODE 7710-12-P